DEPARTMENT OF HEALTH AND HUMAN SERVICES

Centers for Disease Control and Prevention

Sunshine Act Meeting: Board of Scientific Counselors NCEH/ATSDR; Cancelation

FEDERAL REGISTER CITATION OF PREVIOUS ANNOUNCEMENT: The original Federal Register Notice for this meeting was published in the Federal Register on May 22, 2017, Volume 82, Number 2017-10333, page/s/23250-23251.

PREVIOUSLY ANNOUNCED TIME AND DATE OF THE MEETING: 9:00 a.m.-noon, EDT, June 23, 2017.

CHANGES IN THE MEETING: This meeting is being canceled in its entirety.

CONTACT PERSON FOR MORE INFORMATION: Amanda Malasky, BS, ORISE Fellow, CDC, 4770 Buford Hwy., Atlanta, GA 30344, telephone 770-488-7699; yoo0@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-14745 Filed 7-10-17; 4:15 pm]

BILLING CODE 4163-18-P